DEPARTMENT OF COMMERCE

National Oceanic and Atmospheric Administration

Submission for OMB Review; Comment Request

The Department of Commerce will submit to the Office of Management and Budget (OMB) for clearance the following proposal for collection of information under the provisions of the Paperwork Reduction Act.

Agency: National Oceanic and Atmospheric Administration (NOAA).

Title: Atlantic Highly Migratory Species Individual Bluefin Quota (IBQ) Tracking.

OMB Control Number: 0648-0677.

Form Number(s): None.

Type of Request: Regular (revision and extension of a currently approved information collection).

Number of Respondents: 220.

Average Hours per Response: 10 minutes for initial application for IBQ account; 15 minutes per IBQ allocation lease.

Burden Hours: 54.

Needs and Uses: Amendment 7 to the 2006 Consolidated HMS Fishery Management Plan (79 FR 71510, December 2, 2014) implemented individual bluefin tuna quota (IBQ) shares and allocations for vessels permitted in the Atlantic Tunas Longline Category and Atlantic Tunas Purse Seine Category. IBQs are intended to fairly and effectively allocate limited quota for incidental capture of bluefin tuna among vessels in the Longline category, while minimizing dead discards and discouraging interactions with bluefin tuna, and better utilizing the Purse seine category quota. An on-line system developed by the NOAA National Marine Fisheries Service (NMFS) tracks allocations and allocation leases, and reconciles leases with bluefin tuna catches for quota monitoring. The extension of this collection of information will allow NMFS to continue to account for the reporting burden associated with allocation and lease tracking. There are no new requirements. Renewals of account requests are no longer required, and appeals are no longer applicable.

Affected Public: Business or other for-profit organizations.

Frequency: On occasion.

Respondent's Obligation: Mandatory.

This information collection request may be viewed at reginfo.gov. Follow the instructions to view Department of Commerce collections currently under review by OMB.

Written comments and recommendations for the proposed information collection should be sent within 30 days of publication of this notice to OIRA_Submission@omb.eop.gov or fax to (202) 395-5806.

Dated: November 6, 2017.
Sarah Brabson,
NOAA PRA Clearance Officer.

[FR Doc. 2017-24426 Filed 11-8-17; 8:45 am]

BILLING CODE 3510-22-P